INTERNATIONAL TRADE COMMISSION

[USITC SE-19-014]

Sunshine Act Meetings

Agency Holding the Meeting: United States International Trade Commission.

TIME AND DATE: May 9, 2019 at 9:30 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. No. 731-TA-747 (Fourth Review) (Fresh Tomatoes from Mexico). The Commission is currently scheduled to complete and file its determination and views of the Commission by June 4, 2019.

5. Outstanding action jackets: None.

In accordance with Commission policy, subject matter listed above, not disposed of at the scheduled meeting, may be carried over to the agenda of the following meeting.

By order of the Commission.
Issued: April 29, 2019.
William Bishop,
Supervisory Hearings and Information Officer.

[FR Doc. 2019-08960 Filed 4-29-19; 4:15 pm]

BILLING CODE 7020-02-P